GENERAL SERVICES ADMINISTRATION

[OMB Control No. 3090-0320; Docket No. 2025-0001; Sequence No. 18]

Information Collection; General Services Administration Acquisition Regulation; Construction Manager as Constructor (CMc)

AGENCY: Office of Acquisition Policy, General Services Administration (GSA).

ACTION: Notice; request for comments.

SUMMARY: In accordance with the Paperwork Reduction Act of 1995, and the Office of Management and Budget (OMB) regulations, GSA invites the public to comment on an extension of a previously approved information collection requirement regarding OMB Control No. 3090-0320 Construction Manager as Constructor (CMc).

DATES: Submit comments on or before November 3, 2025.

ADDRESSES: Submit comments on this information collection to https://www.regulations.gov. Submit comments via the Federal eRulemaking portal by searching for “Information Collection 3090-0320”. Select the link “Comment Now” that corresponds with Information Collection 3090-0320. Follow the instructions provided at the “Comment Now” screen. Please include your name, company name (if any), and “Information Collection 3090-0320” on your attached document.

Instructions: Please submit comments only and cite “Information Collection 3090-0320” in all correspondence related to this collection. Comments received generally will be posted without change to regulations.gov, including any personal and/or business confidential information provided. To confirm receipt of your comment(s), please check regulations.gov approximately two-to-three days after submission to verify posting.

FOR FURTHER INFORMATION CONTACT: Ms. Amy Lara, 816-589-3783, General Services Acquisition Policy Division, by email at gsarpolicy@gsa.gov.

SUPPLEMENTARY INFORMATION:

A. Purpose

The General Services Administration Acquisition Regulation (GSAR) 552.236-79, Construction-Contractor-as-Constructor, requires the contractor to submit a proposal to establish the final estimated cost of the work, to convert the contract to a firm-fixed-price, and to determine the final settlement for construction-manager-as-constructor (CMc) projects.

The CMc refers to a project management and contracting technique that is one of three predominant methods used for acquiring construction services by GSA. The other two methods are design-bid-build and design-build. The private sector commonly uses a similar construction project delivery method, which allows for early industry engagement by the construction contractor to enable reduced cost growth, reduced schedule growth, and administrative savings.

The information is used by contracting officers to evaluate proposals and negotiate contract modifications during contract administration. This collection supports the Government's shift toward category management by providing a more robust playbook framework for efficient procurement of construction services.

B. Annual Reporting Burden

Total public reporting burden for this collection of information is estimated to average 400 total hours ($33,300) annually, including the time for reviewing instructions, searching existing data sources, gathering, and maintaining the data needed, and completing and reviewing the collection of information. The estimated burden hours to the public for the below clauses are as follows:

GSAR 552.236-79, Construction-Contractor-as-Constructor, requires the contractor to submit a proposal to establish the final estimated cost of the work, to convert the contract to a firm-fixed-price, and to determine the final settlement.

Respondents: 10.

Responses per Respondent: 1.

Total Annual Responses: 10.

Hours per Response: 40.

Total Response Burden Hours: 400.

Cost per Hour: $83.25.

Estimated Cost Burden to the Public: $33,300.

GSAR 552.236-80, Accounting Records, contains a recordkeeping requirement that is subject to the Paperwork Reduction Act (44 U.S.C. 3501, et seq.). The clause requires the contractor to keep all relevant documents for a period of three years after the final payment. However, the clause does not add burden to what is already estimated for the existing FAR clause at 52.215-2, Audit and Records by a previous information collection (see OMB Control Number 9000-0034).

C. Public Comments

Public comments are particularly invited on: Whether this collection of information is necessary; whether it will have practical utility; whether our estimate of the public burden of this collection of information is accurate, and based on valid assumptions and methodology; ways to enhance the quality, utility, and clarity of the information to be collected; and ways in which we can minimize the burden of the collection of information on those who are to respond, through the use of appropriate technological collection techniques or other forms of information technology.

Jeffrey A. Koses,
Senior Procurement Executive, Office of Acquisition Policy, Office of Government-wide Policy.

[FR Doc. 2025-16729 Filed 8-29-25; 8:45 am]

BILLING CODE P